DEPARTMENT OF THE INTERIOR

Fish and Wildlife Service

[FWS-R1-ES-2009-N231; 10120-1113-0000-F5]

Endangered Wildlife and Plants; Permits

AGENCY: Fish and Wildlife Service, Interior.

ACTION: Notice of availability of a permit application; request for comments.

SUMMARY: We, the U.S. Fish and Wildlife Service (Service), invite the public to comment on an application for a permit amendment, which would allow Service employees and their designated agents to conduct enhancement of survival activities for a plant that was recently added to the List of Endangered and Threatened Plants (Phyllostegia hispida). The Endangered Species Act of 1973, as amended (Act), requires that we solicit public comment on this permit application involving endangered species.

DATES: To ensure consideration, please send your written comments by April 9, 2010.

ADDRESSES: Program Manager, Endangered Species, Ecological Services, U.S. Fish and Wildlife Service, 911 NE 11th Avenue, Portland, OR 97232-4181.

FOR FURTHER INFORMATION CONTACT: Linda Belluomini, Fish and Wildlife Biologist, at the above address or by telephone (503-231-6131) or fax (503-231-6243).

SUPPLEMENTARY INFORMATION: The following applicant has applied for a recovery permit to conduct certain activities with an endangered species under section 10(a)(1)(A) of the Act (16 U.S.C. 1531 et seq.). We are soliciting review of and comment on this application by local, State, and Federal agencies and the public.

Permit No. TE-702631

Applicant: Regional Director, Region 1, U.S. Fish and Wildlife Service, Portland, Oregon.

The permittee requests a permit amendment to allow Service employees, and their designated agents to remove/reduce to possession Phyllostegia hispida (no common name), a plant endemic to the island of Molokai, Hawaii. The purpose of these activities is to artificially propagate this species to enhance its chances of survival.

Public Comments

We are soliciting public review and comment on this recovery permit application. Before including your address, phone number, e-mail address, or other personal identifying information in your comment, you should be aware that your entire comment—including your personal identifying information—may be made publicly available at any time. While you can ask us in your comment to withhold your personal identifying information from public review, we cannot guarantee that we will be able to do so.

Please refer to the permit number for the application when submitting comments. All comments and materials we receive in response to this request will be available for public inspection, by appointment, during normal business hours at the above address.

Dated: January 20, 2010.
Cynthia U. Barry,
Regional Director, Region 1, U.S. Fish and Wildlife Service.

[FR Doc. 2010-4883 Filed 3-9-10; 8:45 am]

BILLING CODE 4310-55-P